DEPARTMENT OF THE INTERIOR

Bureau of Land Management

[NV-952-06-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The plats of Survey of the following described lands were officially filed at the Nevada State Office, Reno, Nevada, on April 21, 2005:

The plat, in three (3) sheets, representing the dependent resurvey of portions of the south and north boundaries, a portion of the subdivisional lines, and the subdivision of sections 4, 9, 16, 27 and 33, Township 11 South, Range 47 East, Mount Diablo Meridian, Nevada, under Group No. 772, was accepted April 19, 2005.

The plat, in two (2) sheets, representing the dependent resurvey of a portion of the subdivisional lines and Mineral Survey No. 2934, and the subdivision of sections 5 and 17, Township 12 South, Range 47 East, Mount Diablo Meridian, Nevada, under Group No. 772, was accepted April 19, 2005.

These surveys were executed to meet certain administrative needs of the Bureau of Land Management.

2. The Plats of Survey of the following described lands were officially filed at the Nevada State Office, Reno, Nevada, on July 22, 2005:

The plat representing the dependent resurvey of the First Standard Parallel South, through a portion of Range 41 East, and the dependent resurvey of portions of the south and east boundaries, a portion of the subdivisional lines, and a portion of the subdivision of section 36, the subdivision of section 35, and the further subdivision of section 36, Township 5 South, Range 40 East, Mount Diablo Meridian, Nevada, under Group No. 804, Nevada, was accepted July 21, 2005.

The plat representing the dependent resurvey of portions of the south boundary and subdivisional lines and the subdivision of section 2, Township 6 South, Range 40 East, Mount Diablo Meridian, Nevada, under Group No. 804, Nevada, was accepted July 21, 2005. These surveys were executed to meet certain administrative needs of the Bureau of Land Management and the Bureau of Indian Affairs.

3. The Supplemental Plat of the following described lands was officially filed at the Nevada State Office, Reno, Nevada, on September 13, 2005:

The supplemental plat, showing a subdivision of lot 1, sec. 23, T. 19 S., R. 61 E., Mount Diablo Meridian, Nevada, was accepted September 9, 2005.

This supplemental plat was prepared to meet certain administrative needs of the Bureau of Land Management.

4. The Supplemental Plat of the following described lands was officially filed at the Nevada State Office, Reno, Nevada, on September 29, 2005:

The supplemental plat, showing a subdivision of original lot 4, sec. 21, T. 3 S., R. 35 E., Mount Diablo Meridian, Nevada, was accepted September 27, 2005.

This supplemental plat was prepared to meet certain administrative needs of the Bureau of Land Management.

5. The Plats of Survey of the following described lands will be officially filed at the Nevada State Office, Reno, Nevada on the first business day after thirty (30) days from the publication of this notice:

The plat representing the dependent resurvey of the Seventh Standard Parallel North, through a portion of Range 32 East; and the dependent resurvey of a portion of the west boundary of Township 36 North, Range 33 East; and the survey of a portion of the south boundary of Township 37 North, Range 33 East; and the survey of a portion of the subdivisional lines of Township 36 North, Range 32 East, Mount Diablo Meridian, Nevada, under Group No. 803, was accepted September 27, 2005.

The plat representing the independent resurvey of a portion of the south boundary and the east boundary, and the survey of a portion of the subdivisional lines of Township 37 North, Range 32 East, Mount Diablo Meridian, Nevada, under Group No. 803, was accepted September 27, 2005.

These surveys were executed to meet certain administrative needs of the Bureau of Land Management.

6. Subject to valid existing rights, the provisions of existing withdrawals and classifications, the requirements of applicable laws, and other segregations of record, these lands are open to application, petition, and disposal, including application under the mineral leasing laws. All such valid applications received on or before the official filing of the Plats of Survey described in paragraph 5, shall be considered as simultaneously filed at that time. Applications received thereafter shall be considered in order of filing.

7. The above-listed surveys are now the basic record for describing the lands for all authorized purposes. These surveys have been placed in the open files in the BLM Nevada State Office and are available to the public as a matter of information. Copies of the surveys and related field notes may be furnished to the public upon payment of the appropriate fees.

Dated: October 3, 2005.
David D. Morlan,
Chief Cadastral Surveyor, Nevada.

[FR Doc. 05-20565 Filed 10-13-05; 8:45 am]

BILLING CODE 4310-HC-P